DEPARTMENT OF DEFENSE

Department of the Army, Corps of Engineers

Notice of Intent To Prepare a Draft Environmental Impact Statement for the Southwest Arkansas Red River Navigation Channel Extension

AGENCY: U.S. Army Corps of Engineers, Department of the Army, DoD.

ACTION: Notice of intent.

SUMMARY: The U.S. Army Corps of Engineers (USACE), Mississippi Valley Division, Vicksburg District (CEMVK) is announcing its intent to prepare an Environmental Impact Statement (EIS) to evaluate extending shallow-draft navigation up to 135 miles on the Red River from its present terminus at Shreveport, Louisiana into Southwest Arkansas. Under the authority of Section 203 of the Water Resources Development Act (WRDA) of 1986 (Section 203), as amended, the non-Federal Interest, Arkansas Department of Agriculture Natural Resources Division will perform the investigation to determine the feasibility of a proposed Southwest Arkansas Red River Navigation (SWARRN) channel.

DATES: All comments and suggestions must be submitted by July 7, 2025

ADDRESSES: To ensure the USACE has sufficient time to consider public input in the preparation of the Draft EIS, scoping comments should be submitted by email at CEMVK-PPMD-Civil-Works@usace.army.mil, by surface mail to U.S. Army Corps of Engineers, U.S. Army Corps of Engineers, Vicksburg District, Attn: CEMVK-PMP, 4155 Clay St., Vicksburg, MS 39183.

FOR FURTHER INFORMATION CONTACT: Questions regarding the proposed action should be directed to Mr. Dan Moore, by phone (601) 631-5008, or by email at daniel.r.moore@usace.army.mil.

SUPPLEMENTARY INFORMATION:

Background: The existing Red River waterway, known as the J. Bennett Johnston (JBJ) Waterway, is a navigation system that commences at the confluence of Old and Red Rivers and proceeds upstream for 236 miles to the Shreveport-Bossier City area. The JBJ Waterway project consists of a shallow draft navigation channel with five navigation locks. The portion of the Red River above Shreveport, Louisiana is presently unsuitable for commercial navigation. In 2005, USACE completed a draft Feasibility Report for the proposed SWARRN system. At the time of the report, USACE concluded there were not sufficient National Economic Development (NED) benefits to warrant recommending a project plan to authorize and extend shallow-draft navigation upstream of Shreveport, Louisiana. A recent market analysis and economic update completed by USACE showed the potential for improved NED benefits. In addition, USACE guidance allows the consideration of Regional Economic Development, Environmental Quality and other benefits to be applied when evaluating the feasibility of proposed water resources projects. Because of the improved economic benefits conditions, the Natural Resources Division (non-Federal Interest) has initiated an action to proceed with additional analyses and a feasibility study under the Section 203 authority.

Alternatives: The EIS will evaluate an array of alternatives and the most feasible of the alternatives will be recommended. Alternatives will consist of the `No-Action' alternative and alternatives to extend the heads of shallow-draft navigation into Southwest Arkansas. The shallow-draft navigation alternatives include: (1) extending navigation from Shreveport, Louisiana to Garland, Arkansas; (2) extending navigation from Shreveport, Louisiana to Fulton, Arkansas; and, (3) extending navigation from Shreveport, Louisiana to Index, Arkansas. Each plan requires providing vertical lifts in the waterway through a series of locks and dams. Approximately 54 feet of vertical lift is needed to reach Garland requiring two locks and dams; 75 feet of vertical lift to reach Fulton requiring three locks and dams; and, 102 feet of vertical lift to reach Index requiring three high lift locks and dams. Each shallow-draft navigation alternative will require a navigation channel geometry with a depth up to 12 feet, and revetments and dikes to provide channel and bank stabilization. All feasible and reasonable alternatives will be considered for detailed analysis.

Summary of Expected Effects: The EIS will analyze the potential impacts on the human and natural environment resulting from the proposed actions for the project. The scoping, public involvement, and interagency coordination processes are requesting data and information to help identify and define the range of potential significant issues that will be considered. Resources and issues that may be significantly impacted may include wetlands and other waters of the U.S.; aquatic resources; threatened and endangered species and their critical habitats; cultural resources; soils; navigation and navigable waters; transportation and traffic; hydrology and hydraulics; induced flooding; air, water, and noise quality, and cumulative effects of related projects in the regional area. It is anticipated that with larger pools behind each lock and dam, there will be an increase in shallow-water habitat and an increase in groundwater levels in the vicinity of the pools. In addition, it is anticipated that there may be unavoidable net loss of forested and wetland acres and Least Tern sandbar habitat due to inundation that may require mitigation. Short-term air and water quality impacts are expected from construction activities but should recover post-construction. Possible cultural resources sites and anomalies will be investigated, assessed, and identified. National and regional economic and recreational benefits are expected to be accrued as a result of extending waterborne commerce and with creating navigation pools within the waterway.

Environmental Reviews and Consultation Requirements: The alternatives are being coordinated with Federal, State, regional, and local agencies. The U.S. Fish and Wildlife Service (USFWS) will be assisting in the documentation of existing conditions and assessment of effects of project alternatives through Fish and Wildlife Coordination Act consultation procedures. The USFWS will also provide a Fish and Wildlife Coordination Act report. Coordination with the USFWS regarding threatened or endangered species within the proposed project footprint would be ongoing throughout the planning process. Endangered Species Act, Section 7 consultation, would be initiated should the tentatively selected plan have the potential to affect a protected species. Consultation will also be done with the State Historic Preservation Office and federally recognized Indian Tribes. The proposed action will involve evaluation for compliance with guidelines established by Section 404(b) of the Clean Water Act; application (to the State of Louisiana and State of Arkansas) for Water Quality Certification pursuant to Section 401 of the Clean Water Act; and certification of state lands, easements, and rights of way. The EIS will be distributed for review to all interested agencies, organizations, and individuals.

National Environmental Policy Act (NEPA) Schedule: The draft EIS (DEIS) is presently scheduled to be available for public review and comment in May 2026. A 45-day public review period will be provided for interested parties and agencies to review and comment on this draft document. All interested parties are encouraged to respond to this notice and provide a current address if they wish to be notified of the DEIS circulation. A Record of Decision would be approved and signed no earlier than 30 days after the Final EIS is published.

Public Involvement and Scoping: USACE invites all affected Federal, State, and local agencies, affected federally recognized Indian Tribes, other interested parties, and the public to participate in the NEPA process during development of the DEIS. Besides providing information, this notice requests input on alternatives and issues of concern.

To ensure that public comments are considered in the DEIS preparation process, members of the public, interested persons, and entities must submit their comments to USACE by mail, email. All comments and suggestions must be submitted by July 7, 2025. All personally identifiable information (for example, name, address, etc.) voluntarily submitted by a commenter may be publicly accessible. Do not submit confidential business information or otherwise sensitive or protected information.

Scoping meeting(s) were held prior to the publication of this Notice of Intent (NOI) on July 30, 2024 in Shreveport, Louisiana and on July 31, 2024 in Texarkana, Texas to present information and receive comments from the public. These meetings were publicly announced through press releases, special public notices, USACE social media platforms, and the project website at: https://www.mvk.usace.army.mil/Missions/Programs-and-Project-Management/Project-Management/SW-Ark-Red-River-Nav-Channel-Extension/.

Content for the completed scoping meeting and information on the investigation to extend navigation within the Red River through Southwest Arkansas can be directly accessed at https://redrivernavigation.waterplanroom.com/.

James A. Bodron,
Programs Director, Mississippi Valley Division.

[FR Doc. 2025-10216 Filed 6-4-25; 8:45 am]

BILLING CODE 3720-58-P